DEPARTMENT OF HOUSING AND URBAN DEVELOPMENT

[Docket No. FR-7097-N-01; OMB Control No.: 2503-0033]

60-Day Notice of Proposed Information Collection: Ginnie Mae Mortgage-Backed Securities Programs

AGENCY: Government National Mortgage Association (Ginnie Mae), HUD.

ACTION: Notice.

SUMMARY: HUD is seeking approval from the Office of Management and Budget (OMB) for the information collection described below. In accordance with the Paperwork Reduction Act, HUD is requesting comments from all interested parties on the proposed collection of information. The purpose of this notice is to allow for 60 days of public comment.

DATES: Comments due: August 11, 2025.

ADDRESSES: Interested people are invited to submit comments regarding this proposal. Written comments and recommendations for the proposed information collection can be sent within 60 days of publication of this notice using www.regulations.gov for formatting. Interested persons are also invited to submit comments regarding this proposal and comments should refer to the proposal by name and/or OMB Control Number and should be sent to: Jack Amberg, Senior Program Development Specialist, Ginnie Mae, Department of Housing and Urban Development, 1670 Broadway 25th Floor Denver CO 80202.

FOR FURTHER INFORMATION CONTACT: Jack Amberg, Senior Program Development Specialist, Ginnie Mae, Government National Mortgage Association, Jack Amberg, Senior Program Development Specialist, 1670 Broadway 25th Floor Denver CO 80202; email john.w.amberg@hud.gov at telephone (303) 672-5027. This is not a toll-free number. HUD welcomes and is prepared to receive calls from individuals who are deaf or hard of hearing, as well as individuals with speech or communication disabilities. To learn more about how to make an accessible telephone call, please visit https://www.fcc.gov/consumers/guides/telecommunications-relay-service-trs.Copies of available documents submitted to OMB may be obtained from Jack Amberg.

SUPPLEMENTARY INFORMATION: This notice informs the public that HUD is seeking approval from OMB for the information collection described in Section A.

A. Overview of Information Collection

Title of Information Collection: Ginnie Mae Mortgage-Backed Securities Programs Reporting and Feedback (RFS) Single Family Issuer Monthly Payment Default Status (PDS) Loan Level Reporting. The forms, numbered below, have not changed since 2023 approval.

OMB Control Number: 2503-0033.

Type of Request: Renewal without change to forms listed below. Changes will be indicated.

Form Number: HUD Forms 11700, 11701, 11702, 11703-II, 11704, 11705, 11706, 11707, 11708, 11709, 11709-A, 11710-D, 11710-E, 11711-A,11711-B, 11714, 11714SN, 11715, 11720, 11732, 1734, Appendixes VI-19, VI-05.

The information needed by Ginnie Mae for the participation of issuers/customers in its Mortgage-Backed Securities programs and to monitor performance and compliance with established rules and regulations.

Description of the Need for the Information and Proposed Use: These are multifunctional transmittal forms which are completed by the issuers when requesting commitment authority and/or pool numbers. The frequency of use depends on the issuer's need for specific services from Ginnie Mae.

An issuer can request both commitment authority and pool numbers within one request. If the issuer has available pool numbers, but lacks a sufficient amount of commitment authority necessary to form pools, the issuer can apply for Commitment Authority only. An issuer may need to apply for Ginnie Mae Pool Numbers only. This is done when an issuer has sufficient commitment authority available for use but needs pool numbers. There is no fee for requesting pool numbers.

There are two types of Commitment Authority a Ginne Mae issuer may apply for: (1) Single Family or Single Line Commitment Authority which expires one year from date of approval and (2) Multifamily or Multi-Line Commitment Authority which expires two years from date of approval.

There is only one type of Pool Numbers a Ginnie Mae issuer may apply for: Alpha-Numeric.

Pool Numbers have no expiration date and can only be used once. The information is required by Section 306(g) of the National Housing Act or by Ginnie Mae Handbook 5500.3, Rev. 1.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comments in response to these questions.

C. Authority

Section 2 of the Paperwork Reduction Act of 1995, 44 U.S.C. 3507.

Joseph M Gormley,
Executive Vice President & Chief Operating Officer.

[FR Doc. 2025-10544 Filed 6-10-25; 8:45 am]

BILLING CODE 4210-67-P